FEDERAL COMMUNICATIONS COMMISSION

47 CFR Part 73

[DA 00-1054; MM Docket Nos. 98-130, 99-56; RM-9297, RM-9655, RM-9459]

Radio Broadcasting Services; Saratoga, Green River, Big Piney and LaBarge, Wyoming

AGENCY: Federal Communications Commission.

ACTION: Final rule.

SUMMARY: The Commission, at the request of Mountain Tower Broadcasting, dismisses the petition for rulemaking requesting the allotment of Channel 259C at Saratoga, Wyoming, and grants the counterproposal filed by Mount Rushmore Broadcasting, Inc. requesting the allotment of Channel 259A at Saratoga, as the community's first aural transmission service and the allotment of Channel 259C1 at Green River, Wyoming, as the community's second FM transmission service. It also dismisses as moot the request of Robert R. Rule d/b/a Rule Communications requesting that a site restriction be placed on Channel 259C at Saratoga, to clear its application for Station KRRR(FM) Cheyenne, Wyoming. See 63 FR 39803 (July 24, 1998) (MM Docket No. 98-130). This document also dismisses as defective the petition for rule making filed by Mountain West Broadcasting (MM Docket No. 99-56) 64 FR 08786 (February 23, 1999), requesting the allotment of Channel 259C at Big Piney, Wyoming because it was short-spaced to Channel 259C1 at Green River when it was filed. Counterproposals for Channels 251A at Big Piney and 261A at La Barge, Wyoming filed in response to the dismissed Big Piney proposal will be considered as petitions for rule making in a separate proceeding. See SUPPLEMENTARY INFORMATION.

DATES: Effective June 26, 2000.

FOR FURTHER INFORMATION CONTACT: Victoria M. McCauley, Mass Media Bureau, (202) 418-2180.

SUPPLEMENTARY INFORMATION: This is a synopsis of the Commission's Report and Order, MM Docket Nos. 98-130 and 99-56, adopted May 3, 2000, and released May 12, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

Channel 259A can be allotted to Saratoga at coordinates 41-27-12 and 106-48-30, and Channel 259C1 can be allotted to Green River, Wyoming, at coordinates 41-31-36 and 109-28-06 in compliance with the Commission's minimum distance separation requirements, with respect to domestic allotments, without the imposition of a site restriction. A filing window for Channels 259A and 259C1 will not be opened at this time. Instead, the issue of opening a filing window for these channels will be addressed by the Commission in a subsequent Order.

List of Subjects in 47 CFR Part 73

Radio broadcasting.

Part 73 of title 47 of the Code of Federal Regulations is amended as follows:

47 CFR PART 73—[AMENDED]

1. The authority citation for part 73 continues to read as follows:

Authority: 47 U.S.C. 154, 303, 334 and 336.

§ 73.202 [Amended]

2. Section 73.202(b), the Table of FM Allotments under Wyoming, is amended by adding Saratoga, Channel 259A and Channel 259C1 at Green River.

Federal Communications Commission.
John A. Karousos,
Chief, Allocations Branch, Policy and Rules Division, Mass Media Bureau.

[FR Doc. 00-13699 Filed 5-31-00; 8:45 am]

BILLING CODE 6712-01-U